ENVIRONMENTAL PROTECTION AGENCY

[FRL OP-OFA-124]

Environmental Impact Statements; Notice of Availability

Responsible Agency: Office of Federal Activities, General Information 202-564-5632 or https://www.epa.gov/nepa.

Weekly receipt of Environmental Impact Statements (EIS)

Filed April 22, 2024 10 a.m. EST Through April 29, 2024 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20240075, Final, USAF, MS, T-7A Recapitalization at Columbus Air Force Base, Mississippi, Review Period Ends: 06/03/2024, Contact: Ms. Chinling Chen 210-652-4400.

EIS No. 20240076, Final, USFS, CA, Tahoe National Forest Over-Snow Vehicle Use Designation, Review Period Ends: 06/03/2024, Contact: John Brokaw 530-478-6187.

EIS No. 20240077, Final Supplement, NRC, TX, Generic Environmental Impact Statement for License Renewal of Nuclear Plants, Supplement 60, Regarding License Renewal of Comanche Peak Nuclear Power Plant, Review Period Ends: 06/03/2024, Contact: Tam Tran 301-415-3617.

Amended Notice

EIS No. 20240072, Draft, NRC, MN, Site-Specific Environmental Impact Statement for License Renewal of Nuclear Plants Supplement 26, Second Renewal Regarding Subsequent License Renewal for Monticello Nuclear Generating Plant, Unit 1, Comment Period Ends: 06/10/2024, Contact: Jessica Umana 301-415-5207.

Revision to FR Notice Published 04/19/2024; Extending the Comment Period from 06/03/2024 to 06/10/2024.

Dated: April 29, 2024.
Nancy Abrams,
Associate Director, Office of Federal Activities.

[FR Doc. 2024-09654 Filed 5-2-24; 8:45 am]

BILLING CODE 6560-50-P